DEPARTMENT OF ENERGY

Federal Energy Regulatory Commission

[Docket No. RP02-518-001]

Vector Pipeline L.P.; Notice of Proposed Changes in FERC Gas Tariff

September 10, 2002.

Take notice that on September 5, 2002, Vector Pipeline L.P. (Vector), tendered for filing as part of its FERC Gas Tariff, Volume No. 1, a revised tariff sheet to take the place of a tariff sheet submitted on August 30, 2002 which is now withdrawn by Vector. Vector requests that the revised tariff sheet become effective October 1, 2002.

Vector states that the purpose of this filing is to reflect the Commission's revised Annual Charge Adjustment charge to be applied to transportation rates for the period October 1, 2002 through September 30, 2003.

Any person desiring to protest said filing should file a protest with the Federal Energy Regulatory Commission, 888 First Street, NE., Washington, DC 20426, in accordance with section 385.211 of the Commission's rules and regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's web site under the “e-Filing” link.

Linwood A. Watson, Jr.,
Deputy Secretary.

[FR Doc. 02-23449 Filed 9-13-02; 8:45 am]

BILLING CODE 6717-01-P